DEPARTMENT OF THE TREASURY

Submission for OMB Review; Comment Request

January 26, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 5, 2007 to be assured of consideration.

Internal Revenue Service (IRS)

OMB Number: 1545-1566.

Type of Review: Extension.

Title: Notice 97-66, Certain Payments Made Pursuant to a Securities Lending Transaction.

Description: Notice 97-66 modifies final regulations which are effective November 14, 1997. The Notice relaxes the statement requirement with respect to substitute interest payments relating to securities loans and repurchased transactions. It also provides a withholding mechanism to eliminate excessive withholding on multiple payments in a chain of substitute dividend payments.

Respondents: Businesses and other for-profit institutions.

Estimated Total Burden Hours: 61,750 hours.

OMB Number: 1545-1224.

Type of Review: Extension.

Title: INTL-112-88 (Final) Allocation and Apportionment of Deduction for State Income Taxes.

Description: This regulation provides guidance on when and how the deduction for state income taxes is to be allocated and apportioned between gross income from sources within and without the United States in order to determine the amount of taxable income from those sources. The reporting requirements in the regulation affect those taxpayers claiming foreign tax credits who elect to use an alternative method from that described in the regulation to allocate and apportion deductions for state income taxes.

Respondents: Businesses and other for-profit institutions.

Estimated Total Burden Hours: 1,000 hours.

OMB Number: 1545-0159.

Title: Annual Return To Report Transactions With Foreign Trusts and Receipts of Certain Foreign Gifts.

Type of Review: Extension.

Form: 352.

Description: Form 3520 is filed by U.S. persons who create a foreign trust, transfer property to a foreign trust, receive a distribution from a foreign trust, or receive a large gift from a foreign source. IRS uses the form to identify the U.S. persons who may have transactions that may trigger a taxable event in the future.

Respondents: Businesses and other for-profit institutions.

Estimated Total Burden Hours: 71,742 hours.

OMB Number: 1545-1458.

Title: REG-209835-86 (formerly INTL-933-86) (Final) Computation of Foreign Taxes Deemed Paid Under Section 902 Pursuant to a Pooling Mechanism for Undistributed Earnings and Foreign Taxes.

Type of Review: Extension.

Description: These regulations provide rules for computing foreign taxes deemed paid under section 902. The regulations affect foreign corporations and their U.S. corporate shareholders.

Respondents: Businesses or other for-profit institutions.

Estimated Total Burden Hours: 1 hour.

OMB Number: 1545-1856.

Title: Consent To Disclosure of Return Information.

Type of Review: Extension.

Form: 13362.

Description: The Consent Form is provided to external applicant that will allow the Service the ability to conduct tax checks to determine if an applicant is suitable for employment once they are determined qualified and within reach to receive an employment offer.

Respondents: Federal Government.

Estimated Total Burden Hours: 7,664 hours.

OMB Number: 1545-1093.

Title: IA-56-87 and IA-53-87 Final Minimum Tax—Tax Benefit Rule.

Type of Review: Extension.

Description: Section 58(h) of the 1954 Internal Revenue Code provides that the Secretary shall provide for adjusting tax preference items where such items provided no tax benefit for any taxable year. This regulation provides guidance for situations where tax preference items provided no tax benefit because of available credits and describes how to claim a credit or refund of minimum tax paid on such preferences.

Respondents: Businesses and other for-profit institutions.

Estimated Total Burden Hours: 40 hours.

OMB Number: 1545-1871.

Title: REG-122379-02 Regulations Governing Practice Before the Internal Revenue Service.

Type of Review: Extension.

Description: These disclosures will ensure that taxpayers are provided with adequate information regarding the limits of tax shelter advice that they receive, and also ensure that practitioners properly advise of taxpayers of relevant information with respect to tax shelter opinions.

Respondents: Businesses and other for-profit institutions.

Estimated Total Burden Hours: 13,333 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E7-1687 Filed 2-1-07; 8:45 am]

BILLING CODE 4830-01-P